DEPARTMENT OF TRANSPORTATION

Federal Railroad Administration

[Docket Number FRA-2003-15754]

Notice of Public Hearing: Reading Blue Mountain and Northern Railroad

The Reading Blue Mountain and Northern Railroad (RBMN) has petitioned the Federal Railroad Administration (FRA) seeking the approval of the proposed discontinuance and removal of Automatic Block System (ABS) signals between Milepost (MP) 119.3, Lehighton, and MP 130.6, Independence, on the Lehigh Line.

This proceeding is identified as FRA Block Signal Application Docket Number FRA-2003-15754. A copy of RBMN's full petition is available for review online at www.regulations.gov under the docket number identified above.

FRA has conducted a field investigation in this matter and has issued a public notice seeking comments from interested parties. See 77 FR 2774-2775 (January 19, 2012). After examining the carrier's proposal and the available facts, FRA has determined that a public hearing is necessary before a final decision is made on this proposal. Accordingly, FRA invites all interested persons to participate in a public hearing on August 22, 2012. The hearing will be conducted at the Tilden Township Municipal Building, 874 Hex Highway, Hamburg, PA 19526. The hearing will begin at 10:00 a.m. Interested parties are invited to present oral statements at the hearing. For information on facilities or services for persons with disabilities or to request special assistance at the hearing, contact FRA's Docket Clerk, Jerome Melis-Tull, by telephone, email, or in writing, at least 5 business days before the date of the hearing. Mr. Melis-Tull's contact information is: FRA, Office of Chief Counsel, Mail Stop 10, 1200 New Jersey Avenue SE., Washington, DC 20590; telephone: 202-493-6058; email: Jerome.Melis-Tull@dot.gov.

The hearing will be conducted in accordance with Rule 25 of the FRA Rules of Practice (Title 49 Code of Federal Regulations Section 211.25) by a representative designated by FRA. The hearing will be a non-adversarial proceeding; therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on July 26, 2012.
Ron Hynes,
Acting Deputy Associate Administrator for Regulatory and Legislative Operations.

[FR Doc. 2012-18804 Filed 7-31-12; 8:45 am]

BILLING CODE 4910-06-P